DEPARTMENT OF THE INTERIOR

Bureau of Land Management

[AZ-910-0777-XP-241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on September 18, 2008, in Phoenix, Arizona, at the BLM National Training Center located at 9828 North 31st Avenue in Phoenix from 8 a.m. until 4:30 p.m. Morning agenda items include: Review and approval of the March 6, and June 19, 2008, meeting minutes for RAC and Recreation Resource Advisory Council (RRAC) business; BLM State Director's update on statewide issues; Update on Solar Energy Rights-of-Way Application and Processing; Presentation on OHV Ambassadors Program; RAC questions on BLM Field Managers Rangeland Resource Team proposals; and, reports by RAC working groups. A public comment period will be provided at 11:30 a.m. on September 18, 2008, for any interested publics who wish to address the Council on BLM programs and business.

Under the Federal Lands Recreation Enhancement Act, the RAC has been designated as the RRAC, and has the authority to review all BLM and Forest Service (FS) recreation fee proposals in Arizona. The afternoon meeting agenda on September 18, will include review and discussion of the Recreation Enhancement Act (REA) Working Group Report, REA Work Group meeting schedule and future BLM/FS recreation fee proposals. In addition, the following BLM and FS fee proposals will be discussed:

(1) Paria Canyon/Coyote Buttes Recreation Area (BLM Arizona Strip District)—The BLM proposes to increase the Paria day-use permit fee from $5 per person to $6 per person, and increase the Coyote Buttes North day-use permit fee from $5 per person to $7 per person. Implementation of these new fees is proposed to begin October 1, 2008. Funds generated through recreation fees will be used for the continued operation and maintenance of Paria Canyon/ Coyote Buttes Recreation Area.

(2) Half Moon Ranch and Shaw House (Coronado National Forest)—The FS is proposing to include the Half Moon Ranch and the Shaw House in the “Rooms with a View” Arizona Cabin Rental Program. The proposed new fee increase of $150.00 would include one night's rental at each house. Both houses are located approximately 10 miles east of Sunsites, Arizona, and can accommodate up to 10 people and 6 horses. Rental of these houses and other facilities within the Arizona National Forest has shown that the public appreciates and enjoys the availability of historic rental facilities. Funds from the rentals will be used for the continued operation and maintenance of the Half Moon Ranch and the Shaw House.

(3) Apache Maid Cabin (Coconino National Forest)—The FS proposes to make the historic Apache Maid Cabin available to the public as an overnight rental. The Apache Maid Cabin has served numerous functions ranging from a summer ranch headquarters to a Forest Service Ranger Station. The cabin has two bedrooms and a kitchen, an exterior vault toilet, a propane stove, and propane lighting. The cabin will accommodate a maximum of six people at a fee of $75/night.

(4) Prescott National Forestwide Fee Proposal (Prescott National Forest)—The FS proposes to increase fees at campgrounds from $6-15 to $10-18 and day-use sites from $2-3 to $5. Fee changes would begin in 2009 and would remain the same for the next five years. The forest is also proposing to discontinue fee collection at one campground and one-day use site. Additional components of the proposal include: (a) Camping fees would also include access to day-use sites across the Forest; (b) group sites would have two fee ranges: 1-50 people and 51-100 people; (c) annual passes would remain at the current price of $40; however second vehicle annual passes in the same family would increase from $5 to $10; (d) an extra vehicle charge of $5 would apply to single (up to 1 vehicle, 5 people) and double (2 vehicles, 10 people) campsites. RVs towing a car count as one vehicle; and (e) Wednesday would remain a free day at day use sites.

Following the BLM/FS proposals, the RRAC will open the meeting to public comments on the fee proposals. After completing their RRAC business, the BLM RAC will provide recommendations to the RAC Designated Federal Official on the fee proposal and discuss future RAC meetings and locations.

DATES: Effective Date: September 18, 2008.

FOR FURTHER INFORMATION CONTACT: Deborah Stevens, Bureau of Land Management, Arizona State Office, One North Central Avenue, Suite 800, Phoenix, Arizona 85004-4427, 602-417-9504.

Julie Decker,
Acting State Director.

[FR Doc. E8-19150 Filed 8-18-08; 8:45 am]

BILLING CODE 4310-32-P